DEPARTMENT OF THE INTERIOR

Bureau of Land Management

[LLNML00000 L14300000.ES0000; NMNM 119204]

Correction to Recreation and Public Purposes (R&PP) Act Classification; Dona Ana County, NM

AGENCY: Bureau of Land Management (BLM), Interior.

ACTION: Correction notice.

SUMMARY: This notice contains a correction to the Recreation and Public Purposes (R&PP) Act Classification published in the Federal Register [73 FR No. 200, pages 61166-61167] on Wednesday, October 15, 2008, under the SUPPLEMENTARY INFORMATION.

SUPPLEMENTARY INFORMATION: The second full sentence beginning with “Also, in accordance * * *” should read: Also, in accordance with Section 7 of the Taylor Grazing Act (43 U.S.C. 317f) and Executive Order 6910, the following described land has been examined and found suitable for classification for lease and subsequent conveyance to a government entity—specifically, a site for a proposed community center and park operated and managed by Dona Ana County, New Mexico.

FOR FURTHER INFORMATION CONTACT: Frances Martinez, at the Bureau of Land Management, Las Cruces District Office, 1800 Marquess Street, Las Cruces, New Mexico or at (575) 525-4385.

Bill Childress,
District Manager, Las Cruces.

[FR Doc. E9-7702 Filed 4-6-09; 8:45 am]

BILLING CODE 4310-VC-P